DEPARTMENT OF ENERGY

Federal Energy Regulatory Commission

[Project No. 14793-000]

The Domestic and Foreign Missionary Society of the Protestant Episcopal Diocese of Alabama; Notice of Application Tendered for Filing With the Commission and Establishing Procedural Schedule for Licensing and Deadline for Submission of Final Amendments

Take notice that the following hydroelectric application has been filed with the Commission and is available for public inspection.

a. Type of Application: 10 Megawatt Exemption.

b. Project No.: 14793-000.

c. Date filed: July 12, 2016.

d. Applicant: The Domestic and Foreign Missionary Society of the Protestant Episcopal Diocese of Alabama.

e. Name of Project: Camp McDowell Project.

f. Location: On Clear Creek, near Nauvoo in Winston County, Alabama. The project does not affect federal lands.

g. Filed Pursuant to: Federal Power Act 16 U.S.C. 791(a)-825(r).

h. Applicant Contact: Frazier Christy, 3621 Kingshill Road, Birmingham, Alabama 35223.

i. FERC Contact: Michael Spencer, (202) 502-6093, michael.spencer@ferc.gov.

j. This application is not ready for environmental analysis at this time.

k. The proposed project would consist of: (1) an Archimedean Screw installed in the spillway of the dam; (2) a 10 acre reservoir; (3) a powerhouse containing a generator with a total installed capacity of 140 kilowatts; and (4) a transmission line. The project is estimated to generate an average of 950 megawatt-hours annually.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural schedule: The application will be processed according to the following preliminary Hydro Licensing Schedule. Revisions to the schedule will be made as appropriate.

Milestone | Target date
Notice of Acceptance/Notice of Ready for Environmental Analysis | October 2016.
Filing of recommendations, preliminary terms and conditions, and fishway prescriptions | December 2016.
Commission issues EA | June 2017.
Comments on EA | July 2017.

o. Final amendments to the application must be filed with the Commission no later than 30 days from the issuance date of the notice of ready for environmental analysis.

Dated: July 27, 2016.
Kimberly D. Bose,
Secretary.

[FR Doc. 2016-18579 Filed 8-4-16; 8:45 am]

BILLING CODE 6717-01-P